SECURITIES AND EXCHANGE COMMISSION

[SEC File No. 270-028, OMB Control No. 3235-0032]

Submission for OMB Review; Comment Request; Extension: Rule 17f-1(b)

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 17f-1(b) (17 CFR 240.17f-1(b)), under the Securities Exchange Act of 1934 (15 U.S.C. 78a et seq.).

Under Rule 17f-1(b) under the Exchange Act, approximately 9,500 entities in the securities industry are registered in the Lost and Stolen Securities Program (“Program”). Registration fulfills a statutory requirement that entities report and inquire about missing, lost, counterfeit, or stolen securities. Registration also allows entities in the securities industry to gain access to a confidential database that stores information for the Program.

The Commission staff estimates that 4 new entities will register in the Program each year. The staff estimates that the average number of hours necessary to comply with Rule 17f-1(b) is one-half hour. Accordingly, the staff estimates that the total annual burden for all participants is 2 hours (4 × one-half hour). The Commission staff estimates that compliance staff work at subject entities results in an internal cost of compliance, at an estimated hourly wage of $344, of $172 per year per entity (.5 hours × $344 per hour = $172 per year). Therefore, the aggregate annual internal cost of compliance is approximately $688 ($172 × 4= $688).

An agency may not conduct or sponsor, and a person is not required to respond to, a collection of information under the PRA unless it displays a currently valid OMB control number.

The 30-day public comment period for this information collection request opens on December 3, 2024 and ends on January 2, 2025. View the full information request and submit comments at https://www.reginfo.gov/public/do/PRAViewICR?ref_nbr=202409-3235-016 or email comments to MBX.OMB.OIRA.SEC_desk_officer@omb.eop.gov.

Dated: November 25, 2024.
Vanessa A. Countryman,
Secretary.

[FR Doc. 2024-28124 Filed 11-29-24; 8:45 am]

BILLING CODE 8011-01-P